DEPARTMENT OF LABOR

Office of the Secretary

Submission for OMB Review: Comment Request

March 20, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Mary Beth Smith-Toomey on 202-693-4223 (this is not a toll-free number)/e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title of Collection: Experience Rating Report.

OMB Control Number: 1205-0164.

Agency Form Numbers: ETA 204.

Affected Public: State Governments.

Total Estimated Number of Respondents: 53.

Total Estimated Annual Burden Hours: 13.

Total Estimated Annual Costs Burden (excludes wage/hour costs): $0.

Description: The ETA-204 provides data to ETA for the study of seasonality, employment or payroll fluctuations, and stabilization, expansion or contraction in operations on employment experience. The data are used to provide an indication of whether solvency problems exist in the State's Trust Fund accounts and in analyzing factors that give rise to solvency problems. The data are also used to complete the Experience Rating Index. For additional information, see related notice published at Volume 73 FR 67207 on November 13, 2008.

Agency: Employment and Training Administration.

Type of Review: Extension without change of a currently approved collection.

Title of Collection: Tax Performance System.

OMB Control Number: 1205-0332.

Agency Form Numbers: N/A.

Affected Public: State Governments.

Total Estimated Number of Respondents: 52.

Total Estimated Annual Burden Hours: 90,428.

Total Estimated Annual Costs Burden (excludes wage/hour costs): $0.

Description: The Tax Performance System (TPS) gathers and disseminates information on the timeliness and accuracy of state unemployment insurance tax operations. The Department is required to review the timeliness, accuracy, and completeness of certain tax collections of states using the Tax Performance System. Handbook 407 prescribes the operation of this program. TPS data now are an integral part of the Unemployment Insurance (UI) PERFORMS, the performance management system for the UI program. UI PERFORMS incorporates a strategic planning process of identifying priorities; ongoing collection and monitoring of valid data to measure performance; identification of areas of potential improvement; and development of specific action steps to improve performance, followed by use of available data to determine whether the action steps are successful. For additional information, see related notice published at Volume 73 FR 48243 on August 18, 2008.

Agency: Employment and Training Administration.

Type of Review: Extension without change of a currently approved collection.

Title of Collection: Reemployment and Eligibility Assessment Program.

OMB Control Number: 1205-0456.

Agency Form Numbers: ETA 9128 and ETA 9129.

Affected Public: State Governments.

Total Estimated Number of Respondents: 18.

Total Estimated Annual Burden Hours: 36.

Total Estimated Annual Costs Burden (excludes wage/hour costs): $0.

Description: The Social Security Act (U.S.C. 42, section 503) authorizes DOL to prescribe standard definitions, methods and procedures, and reporting requirements for the collection of information on benefit payment accuracy and the reemployment of UI benefit recipients to ensure the verification of these data. The ETA 9060 report provides a count of the claimants who were referred to Reemployment and Eligibility Assessment (REA) program and a count of those who completed the services. The ETA 9061 report provides for the subsequent collection of outcome data, which assists in monitoring the success of the REA program. For additional information, see related notice published at Volume 73 FR 73957 on December 4, 2008.

Darrin A. King,
Departmental Clearance Officer.

[FR Doc. E9-6774 Filed 3-26-09; 8:45 am]

BILLING CODE 4510-FW-P